DEPARTMENT OF COMMERCE

National Oceanic and Atmospheric Administration

Coast Zone Management: Federal Consistency Appeal by Port of Seattle From an Objection by the State of Washington

AGENCY: National Oceanic and Atmospheric Administration, Commerce.

ACTION: Dismissal of appeal.

By letters dated July 17 and August 19, 1998, the Port of Seattle (Appellant) filed with the Secretary of Commerce notices of appeal pursuant to section 307(c)(3)(A) of the Coastal Zone Management Act of 1972, as amended, (CZMA), 16 U.S.C. 1451 et seq., and the Department of Commerce's implementing regulations at 15 CFR part 930, subpart H. The first appeal was taken from an objection by the State of Washington (State) to the Appellant's consistency certification for a Clean Water Act section 404 permit to construct a runway and airport support facilities at Seattle-Takoma International Airport. The second appeal was taken from a later “conditional concurrence” by the State with the same consistency certification.

At the Appellant's request, the General Counsel for the National Oceanic and Atmospheric Administration (NOAA) granted a stay of the consistency appeals pending disposition of parallel appeals that had been filed simultaneously by the Port of Seattle with the Washington Pollution Control Hearings Board (Board). The State did not oppose the stay. The two appeals before the Board have been dismissed. With the dismissal of the appeals before the Board, the Appellant requested that the two consistency appeals be dismissed. The State concurred and NOAA accordingly dismissed the appeals. The Appellant is barred from filing another appeal from the State's objection to its consistency certification. This is a final agency action for purposes of judicial review.

FOR FURTHER INFORMATION CONTACT: Stephanie Campbell, Attorney-Adviser, National Oceanic and Atmospheric Administration, U.S. Department of Commerce, 1305 East-West Highway, Room 6111, Silver Spring, Maryland 20910, (301) 713-2967.

(Federal Domestic Assistance Catalog No. 11.419 Coastal Zone Management Program Assistance)

Dated: May 8, 2001.
Craig O'Connor,
Acting General Counsel.

[FR Doc. 01-13152 Filed 5-23-01; 8:45 am]

BILLING CODE 3510-08-M